DEPARTMENT OF THE INTERIOR

Minerals Management Service

[Docket No. MMS-2008-MRM-0039]

Agency Information Collection Activities: Submitted for Office of Management and Budget Review; Comment Request

AGENCY: Minerals Management Service (MMS), Interior.

ACTION: Notice of a revision of a currently approved information collection (OMB Control Number 1010-0139).

SUMMARY: To comply with the Paperwork Reduction Act of 1995 (PRA), we are notifying the public that we have submitted to the Office of Management and Budget (OMB) an information collection request (ICR) to renew approval of the paperwork requirements in the regulations under title 30 of the Code of Federal Regulations (CFR) parts 210 and 212. This notice also provides the public a second opportunity to comment on the paperwork burden of these regulatory requirements. This ICR pertains to onshore and offshore royalty and production reporting on oil, gas, and geothermal leases on Federal and Indian lands.

We changed the title of this ICR to reflect regulatory actions, including publication of the final rule, RIN 1010-AD20, Reporting Amendments, on March 26, 2008 (73 FR 15885). The final rule removed 30 CFR part 216 and replaced part 210 in its entirety. In this revision, we also consolidated the following ICRs to allow programwide review of royalty and production reporting for oil, gas, and geothermal leases on Federal and Indian lands:

• 1010-0139, 30 CFR Part 210—Forms and Reports and Part 216—Production Accounting; and

• 1010-0140, 30 CFR Part 210—Forms and Reports.

DATES: Submit written comments on or before September 30, 2009.

ADDRESSES: Submit written comments by either FAX (202) 395-5806 or e-mail (OIRA_Docket@omb.eop.gov) directly to the Office of Information and Regulatory Affairs, OMB, Attention: Desk Officer for the Department of the Interior (OMB Control Number 1010-0139).

Please submit copies of your comments to MMS by one of the following methods:

• Electronically go to http://www.regulations.gov. In the “Comment or Submission” column, enter “MMS-2008-MRM-0039” to view supporting and related materials for this ICR. Click on “Send a comment or submission” link to submit public comments. Information on using Regulations.gov, including instructions for accessing documents, submitting comments, and viewing the docket after the close of the comment period, is available through the site's “User Tips” link. All comments submitted will be posted to the docket.

• Mail comments to Hyla Hurst, Regulatory Specialist, Minerals Management Service, Minerals Revenue Management, P.O. Box 25165, MS 300B2, Denver, Colorado 80225. Please reference ICR 1010-0139 in your comments.

• Hand-carry comments or use an overnight courier service. Our courier address is Building 85, Room A-614, Denver Federal Center, West 6th Ave. and Kipling St., Denver, Colorado 80225. Please reference ICR 1010-0139 in your comments.

FOR FURTHER INFORMATION CONTACT: Hyla Hurst, telephone (303) 231-3495, or e-mail hyla.hurst@mms.gov. You may also contact Hyla Hurst to obtain copies, at no cost, of (1) the ICR, (2) any associated forms, and (3) the regulations that require the subject collection of information.

SUPPLEMENTARY INFORMATION:

Title: 30 CFR Parts 210 and 212, Royalty and Production Reporting.

OMB Control Number: 1010-0139.

Bureau Form Number: Forms MMS-2014, MMS-4054, and MMS-4058.

Abstract: The Secretary of the U.S. Department of the Interior is responsible for mineral resource development on Federal and Indian lands and the Outer Continental Shelf (OCS). The Secretary is required by various laws to manage mineral resource production from Federal and Indian lands and the OCS, collect the royalties and other mineral revenues due, and distribute the funds collected in accordance with applicable laws. Public laws pertaining to mineral leases on Federal and Indian lands are posted on our Web site at http://www.mrm.mms.gov/Laws_R_D/PublicLawsAMR.htm.

The Secretary also has a trust responsibility to manage Indian lands and seek advice and information from Indian beneficiaries. The MMS performs the minerals revenue management functions and assists the Secretary in carrying out the Department's trust responsibility for Indian lands.

General Information

When a company or an individual enters into a lease to explore, develop, produce, and dispose of minerals from Federal or Indian lands, that company or individual agrees to pay the lessor a share in an amount or value of production from the leased lands. The lessee is required to report various kinds of information to the lessor relative to the disposition of the leased minerals.

We use the information collected in this ICR to ensure that royalty is appropriately paid, based on accurate production accounting on oil, gas, and geothermal resources produced from Federal and Indian leases. The requirement to report accurately and timely is mandatory. Please refer to the chart for all reporting requirements and associated burden hours.

Royalty Reporting

The regulations require that lessees report and remit royalties on oil, gas, and geothermal resources produced from leases on Federal and Indian lands. The following form is used for royalty reporting:

Form MMS-2014, Report of Sales and Royalty Remittance, is submitted monthly to report royalties on oil, gas, and geothermal leases, certain rents, and other lease-related transactions (e.g., transportation and processing allowances, lease adjustments, and quality and location differentials).

Production Reporting

The MMS financial accounting system includes production reports submitted by lease/agreement operators and is designed to track minerals produced from Federal and Indian lands from the point of production to the point of disposition, or royalty determination, and/or point of sale. The following forms are used for production accounting and reporting:

Form MMS-4054, Oil and Gas Operations Report (OGOR), is submitted monthly for all production reporting for Outer Continental Shelf, Federal, and Indian lands. Production information is compared with sales and royalty data submitted on Form MMS-2014 to ensure proper royalties are paid on the oil and gas production reported to MMS. The MMS uses the information from Parts A, B, and C of the OGOR to track all oil and gas from the point of production to the point of first sale or other disposition.

Form MMS-4058, Production Allocation Schedule Report (PASR), is submitted monthly by operators of the facilities and measurement points where production from an offshore Federal lease or metering point is commingled with production from other sources before it is measured for royalty determination. The MMS uses the data to determine whether sales reported by the lessee are reasonable.

OMB Approval

We will request OMB approval to continue to collect this information. Not collecting this information would limit the Secretary's ability to discharge his/her duties and may also result in loss of royalty payments. Proprietary information submitted to MMS under this collection is protected, and no items of a sensitive nature are included in this information collection. Responses are mandatory.

Frequency: Monthly.

Estimated Number and Description of Respondents: 4,570 oil, gas, and geothermal reporters.

Estimated Annual Reporting and Recordkeeping “Hour” Burden: 253,509 hours.

We have not included in our estimates certain requirements performed in the normal course of business and considered usual and customary. The following chart shows the estimated burden hours by CFR section and paragraph:

Respondents' Estimated Annual Burden Hours
30 CFR part 210 | Reporting and recordkeeping requirement | Hour burden | Average number of annual responses | Annual burden hours
30 CFR 210—FORMS AND REPORTS
Subpart B—Royalty Reports—Oil, Gas, and Geothermal Resources
210.52(a) and (b) | 210.52 What royalty reports must I submit? | Form MMS-2014
|  | Electronic* (approximately 99 percent)
210.53(a) and (b) | You must submit a completed Form MMS-2014, Report of Sales and Royalty Remittance, to MMS with: | 3 min | 3,510,849 | 175,542
|  | Manual* (approximately 1 percent)
210.54(a) and (b) | (a) All royalty payments: And | 7 min | 35,463 | 4,137
| (b) Rents on nonproducing leases, where specified in the lease
| 210.53 When are my royalty reports and payments due?
| (a) Completed Forms MMS-2014 for royalty payments and the associated payments are due by the end of the month following the production month (see also § 218.50)
| (b) Completed Forms MMS-2014 for rental payments, where applicable, and the associated payments are due as specified by the lease terms (see also § 218.50)
| 210.54 Must I submit this royalty report electronically?
| (a) You must submit Form MMS-2014 electronically unless you qualify for an exception under § 210.55(a).
| (b) You must use one of the following electronic media types, unless MMS instructs you differently:
| * * * * *
Subtotal for Royalty Reporting | 3,546,312 | 179,679
Subpart C—Production Reports—Oil and Gas
210.102(a)(1)(i) and (ii), (a)(2)(i) and (ii) | 210.102 What production reports must I submit? | Burden hours covered under 210.104(a) and (b)
| (a) Form MMS-4054, Oil and Gas Operations Report. If you operate a Federal or Indian onshore or OCS oil and gas lease or federally approved unit or communitization agreement that contains one or more wells that are not permanently plugged or abandoned, you must submit Form MMS-4054 to MMS:
| (1) You must submit Form MMS-4054 for each well for each calendar month, beginning with the month in which you complete drilling, unless:
| (i) You have only test production from a drilling well; or
| (ii) The MMS tells you in writing to report differently.
| (2) You must continue reporting until:
| (i) The Bureau of Land Management (BLM) or MMS approves all wells as permanently plugged or abandoned or the lease or unit or communitization agreement is terminated; and
| (ii) You dispose of all inventory.
210.102(b)(1), (b)(2)(i)-(vi) | (b) Form MMS-4058, Production Allocation Schedule Report. If you operate an offshore facility measurement point (FMP) handling production from a Federal oil and gas lease or federally approved unit agreement that is commingled (with approval) with production from any other source prior to measurement for royalty determination, you must file Form MMS-4058. | Burden hours covered under 210.104(a) and (b)
| (1) You must submit Form MMS-4058 for each calendar month beginning with the month in which you first handle production covered by this section.
| (2) Form MMS-4058 is not required whenever all of the following conditions are met:
| (i) All leases involved are Federal leases;
| (ii) All leases have the same fixed royalty rate;
| (iii) All leases are operated by the same operator;
| (iv) The facility measurement device is operated by the same person as the leases/agreements;
| (v) Production has not been previously measured for royalty determination; and
| (vi) The production is not subsequently commingled and measured for royalty determination at an FMP for which Form MMS-4058 is required under this part.
210.103(a) and (b) | 210.103 When are my production reports due? | Burden hours covered under 210.104(a) and (b)
| (a) The MMS must receive your completed Forms MMS-4054 and MMS-4058 by the 15th day of the second month following the month for which you are reporting.
| (b) A report is considered received when it is delivered to MMS by 4 p.m. mountain time at the addresses specified in § 210.105. Reports received after 4 p.m. mountain time are considered received the following business day.
210.104(a) and (b) | 210.104 Must I submit these production reports electronically? | Form MMS-4054 (OGOR)
|  | Electronic* (approximately 98 percent)
| (a) You must submit Forms MMS-4054 and MMS-4058 electronically unless you qualify for an exception under § 210.105 | 1 min | 4,137,803 | 68,963
|  | Manual* (approximately 2 percent)
|  | 3 min | 84,445 | 4,222
| (b) You must use one of the following electronic media types, unless MMS instructs you differently: | Total OGOR | 4,222,248 | 73,185
| * * * * * | Form MMS-4058 (PASR)
|  | Electronic* (approximately 98 percent)
|  | 1 min | 36,456 | 608
|  | Manual* (approximately 2 percent)
|  | 3 min | 744 | 37
| Total PASR | 37,200 | 645
Subpart D—Special-Purpose Forms and Reports—Oil, Gas, and Geothermal Resources
210.155 | 210.155 What reports must I submit for Federal onshore stripper oil properties? | Burden covered under OMB Control Number 1010-0090 (expires December 31, 2010)
| (a) General. Operators who have been granted a reduced royalty rate by the Bureau of Land Management (BLM) under 43 CFR 3103.4-2 must submit Form MMS-4377, Stripper Royalty Rate Reduction Notification, under 43 CFR 3103.4-2(b)(3).
| * * * * *
Subtotal for Production Reporting | 4,259,448 | 73,830
PART 212—RECORDS AND FILES MAINTENANCE
Subpart B—Oil, Gas and OCS Sulphur—General
212.50 | 212.50 Required recordkeeping and reports | Burden hours covered under 210.54(a) and (b); and 210.104(a) and (b)
| All records pertaining to offshore and onshore Federal and Indian oil and gas leases shall be maintained by a lessee, operator, revenue payor, or other person for 6 years after the records are generated unless the recordholder is notified, in writing, that records must be maintained for a longer period * * *
| [In accordance with 30 U.S.C. 1724(f), Federal oil and gas records must be maintained for 7 years from the date the obligation became due.]
212.51(a) and (b) | (a) Records. Each lessee, operator, revenue payor, or other person shall make and retain accurate and complete records necessary to demonstrate that payments of rentals, royalties, net profit shares, and other payments related to offshore and onshore Federal and Indian oil and gas leases are in compliance with lease terms, regulations, and orders * * * | Burden hours covered under 210.54(a) and (b); and 210.104(a) and (b).
| (b) Period for keeping records. Lessees, operators, revenue payors, or other persons required to keep records under this section shall maintain and preserve them for 6 years from the day on which the relevant transaction recorded occurred unless the Secretary notifies the record holder of an audit or investigation involving the records and that they must be maintained for a longer period * * *
| [In accordance with 30 U.S.C. 1724(f), Federal oil and gas records must be maintained for 7 years from the date the obligation became due.]
Total for Royalty and Production Reporting | 7,805,760 | 253,509
* Note: Each line of data is considered one response/report.

Estimated Annual Reporting and Recordkeeping “Non-hour” Cost Burden: We have identified no “non-hour” cost burden associated with the collection of information.

Public Disclosure Statement: The PRA (44 U.S.C. 3501 et seq.) provides that an agency may not conduct or sponsor, and a person is not required to respond to, a collection of information unless it displays a currently valid OMB control number.

Comments: Section 3506(c)(2)(A) of the PRA requires each agency to “* * * provide 60-day notice in the Federal Register * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on November 13, 2008 (73 FR 67197), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by September 30, 2009.

Public Comment Policy: We will post all comments in response to this notice at http://www.mrm.mms.gov/Laws_R_D/FRNotices/FRInfColl.htm. We also will post all comments, including names and addresses of respondents, at http://www.regulations.gov. Before including your address, phone number, e-mail address, or other personal identifying information in your comment, be advised that your entire comment—including your personal identifying information—may be made publicly available at any time. While you can ask us in your comment to withhold from public view your personal identifying information, we cannot guarantee that we will be able to do so.

MMS Information Collection Clearance Officer: Arlene Bajusz (202) 208-7744.

Dated: August 11, 2009.
Jennifer L. Goldblatt,
Acting Associate Director for Minerals Revenue Management.

[FR Doc. E9-20905 Filed 8-28-09; 8:45 am]

BILLING CODE 4310-MR-P